DEPARTMENT OF EDUCATION

Office of Special Education and Rehabilitative Services; Overview Information; Personnel Development To Improve Services and Results for Children With Disabilities—National Center To Improve the Recruitment and Retention of Qualified Personnel for Children With Disabilities; Notice Inviting Applications for New Awards for Fiscal Year (FY) 2008

Catalog of Federal Domestic Assistance (CFDA) Number: 84.325C.

DATES:

Applications Available: June 24, 2008.

Deadline for Transmittal of Applications: July 24, 2008.

Deadline for Intergovernmental Review: September 22, 2008.

Full Text of Announcement

I. Funding Opportunity Description

Purpose of Program: The purposes of this program are to (1) help address State-identified needs for highly qualified personnel—in special education, related services, early intervention, and regular education—to work with infants, toddlers, and children with disabilities; and (2) ensure that those personnel have the necessary skills and knowledge, derived from practices that have been determined through scientifically based research and experience, to be successful in serving those children.

Priority: In accordance with 34 CFR 75.105(b)(2)(v), this priority is from allowable activities specified in the statute, or otherwise authorized in the statute (see sections 662 and 681(d) of the Individuals with Disabilities Education Act (IDEA)). 20 U.S.C. 1462 and 1481(d).

Absolute Priority: For FY 2008 and any subsequent year in which we make awards from the list of unfunded applicants from this competition, this priority is an absolute priority. Under 34 CFR 75.105(c)(3), we consider only applications that meet this priority.

This priority is:

National Center to Improve the Recruitment and Retention of Qualified Personnel for Children With Disabilities (84.325C).

Background

Under Part B of IDEA, section 612(a)(14) requires States to ensure that special education teachers and related services personnel providing services are appropriately and adequately prepared and trained. In implementing this requirement, States must ensure that local educational agencies (LEAs) take measurable steps to recruit, hire, train, and retain highly qualified special education teachers and related services personnel to serve children with disabilities. Likewise, under Part C of IDEA, section 635(a)(8) and (9) requires States to maintain comprehensive systems of personnel development that include strategies to prepare, recruit, and retain early intervention service providers who are fully and appropriately qualified to provide early intervention services.

States and LEAs report challenges in recruiting and retaining highly qualified special education teachers, which could affect their ability to meet the Federal personnel requirements under IDEA. Throughout the United States, there is a chronic and pervasive shortage of special education teachers and this shortage is expected to increase over time (McLeskey, Tyler, & Flippin, 2004). In addition, there is a severe shortage of special educators from culturally and linguistically diverse backgrounds that reflects the lack of diversity in the teacher population as a whole (McLeskey et al., 2004; NCES, 2003).

Nationwide, there is a growing shortage of qualified school-based related services personnel, including audiologists, occupational therapists, physical therapists, and speech-language pathologists (Center on Personnel Studies in Special Education, 2004). Part C early intervention and Part B preschool programs also report significant personnel shortages across disciplines serving infants, toddlers, and preschoolers with disabilities and their families (Center to Inform Personnel Preparation Policy and Practice in Early Intervention and Preschool Education, 2007).

The current personnel shortage has multiple causes, including increases in (a) the number of positions created to meet the growing population of infants, toddlers, and children with disabilities, and (b) the number of special education personnel moving out of direct service roles to other positions in the field, switching to regular education, or leaving the profession altogether (McLeskey et al., 2004). Uncertified or inadequately prepared personnel, as well as younger and inexperienced personnel, are more likely to leave their positions than their certified and more experienced colleagues (Billingsley, 2004; McLeskey et al., 2004).

To address these on-going challenges effectively, States must adopt evidence-based and comprehensive strategies to recruit new special education teachers, related services personnel, and early intervention personnel, retain the current workforce, and improve the skills of uncertified and inadequately prepared personnel. In 2003, the Office of Special Education Programs (OSEP) funded the National Center for Special Education Personnel and Related Services Providers (Personnel Center) to help States develop and implement strategies to recruit and retain sufficient numbers of highly or fully qualified personnel. (Information on the work of the Personnel Center is available at http://www.personnelcenter.org) To further enhance the capacity of States and LEAs to recruit and retain sufficient numbers of highly or fully qualified personnel, the Secretary is proposing to establish a National Center to Improve the Recruitment and Retention of Qualified Personnel for Children With Disabilities.

Priority

The purpose of this priority is to fund a cooperative agreement to support the establishment and operation of a National Center to Improve the Recruitment and Retention of Qualified Personnel for Children With Disabilities (Center). This Center will identify, disseminate, and assist States in implementing evidence-based recruitment and retention practices in order to help meet States' needs for highly or fully qualified special education, early intervention, and related services personnel, including paraprofessionals (qualified personnel).

To be considered for funding under this absolute priority, applicants must meet the application requirements contained in this priority. The project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: For more information on logic models, the following Web site lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for attendance at the following:

(1) A one and one half day kick-off meeting to be held in Washington, DC within four weeks after receipt of the award, and an annual one-day planning meeting held in Washington, DC with the OSEP Project Officer during each subsequent year of the project period.

(2) A three-day Project Directors' Conference in Washington, DC during each year of the project period.

(3) A four-day Technical Assistance and Dissemination meeting in Washington, DC during each year of the project period; and

(e) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) During the first year of the project period, examine existing literature reviews and conduct literature reviews to identify evidence-based practices (e.g., mentoring programs) that have been shown to be effective in recruiting and retaining qualified personnel to serve infants, toddlers, and children with disabilities. To the extent possible, the Center must use the standards established by the What Works Clearinghouse, (http://ies.ed.gov/ncee/wwc/overview/review.asp?ag=pi) in identifying evidence-based practices. The Center must also identify (in existing literature reviews and reviews conducted by the Center) current findings on innovative recruitment and retention strategies (e.g., peer collaboration programs) that show promise in the field, but for which the research base is less well developed.

(b) Review available State information related to shortages in personnel to meet the needs of children served through Part B and Part C programs from sources such as IDEA State Performance Plans (SPPs), IDEA Annual Performance Reports (APRs), and any other relevant sources to gain an understanding of States' personnel needs.

Technical Assistance and Dissemination Activities

(a) Assist a minimum of four different States during each year of the project period in building their capacity to recruit and retain early intervention service personnel for lead agencies and special education and related services personnel for State educational agencies (SEAs) and LEAs. Factors for consideration in selecting these States could include the demographic and geographic characteristics of each State, each State's recruitment and retention needs, and the previous initiatives focused on recruitment and retention that have taken place in the State. The Center must obtain approval from the OSEP Project Officer on the final selection of States.

Note: To fulfill the requirements of paragraph (b) of the Application Requirements of this priority, applicants must describe the methods and criteria for recruiting and selecting States for this activity in their application.

To assist these States, the Center must—

(1) Provide technical assistance (TA) to the SEAs and Part C State lead agencies to increase their capacity, as appropriate, to—

(i) Create or improve data systems that can be used to identify State personnel needs and disaggregate highly qualified special education teacher (HQT) (as defined in § 300.18) data by student disability category (as defined in § 300.8), and use those data to inform decision-making on recruitment and retention efforts.

(ii) Develop and implement a plan to recruit individuals from communities within the State, particularly individuals from diverse cultural and linguistic backgrounds, to pursue careers in early intervention, special education, and related services and evaluate the effectiveness of strategies used; and

(iii) Develop and implement a plan to support and increase the likelihood of retaining personnel in early intervention, special education, and related services positions within the State and evaluate the effectiveness of strategies used.

(2) Develop and coordinate a national TA network comprised of a cadre of experts that the Center will use to provide TA to States to assist them in addressing recruitment and retention issues; and

(3) Synthesize and analyze State personnel data and disseminate this information to SEAs, LEAs, and lead agencies so that they can use these data to predict hiring needs and work with organizations, such as institutions of higher education (IHEs), including community colleges, to recruit and train personnel in high need areas.

(b) Conduct nationwide outreach activities to encourage individuals, including individuals with disabilities, individuals from diverse cultural and linguistic backgrounds, and individuals who have changed or may change careers, to pursue careers in early intervention, special education, and related services. These outreach activities must also encourage individuals to pursue careers as paraprofessionals. In developing, implementing, and maintaining a comprehensive and coordinated recruitment campaign, the Center must incorporate findings on effective recruitment strategies from its literature reviews and from the research conducted by the OSEP-funded Center on Personnel Studies in Special Education (http://www.coe.ufl.edu/copsse/) into its activities. The Center also must utilize a wide range of communication strategies and media outlets in its outreach activities.

(c) Provide information to individuals who have expressed interest in pursuing a career in early intervention, special education, or related services. To address this requirement, the Center must—

(1) Compile and regularly update information on ongoing and emerging areas of personnel need, as identified by SEAs, LEAs, lead agencies, and other relevant entities;

(2) Develop and maintain a comprehensive, up-to-date, searchable, and easily accessible database of accredited early intervention, special education, and related services personnel preparation programs available across the country. This database must reflect the full range of training opportunities, including both traditional and alternative programs; and

(3) Develop and maintain a comprehensive, up-to-date, searchable, and easily accessible database of information on available student financial assistance, including financial assistance provided by the Department, other Federal agencies, State agencies, and public and private sources to support training opportunities for individuals pursuing careers in early intervention, special education and related services.

(d) Maintain a Web site that meets a government or industry-recognized standard for accessibility and that links to the Web site operated by the Technical Assistance Coordination Center (TACC), which OSEP intends to fund in FY 2008. The Web site must contain information on early intervention, special education, and related services careers, including careers for paraprofessionals; current research on recruiting, developing, and retaining a diverse, qualified workforce; and other relevant resources on recruitment and retention.

(e) Prepare and disseminate reports, documents, and other materials on trends, emerging research, and compelling issues relating to the recruitment and retention of early intervention, special education, and related services personnel, and related topics, as requested by OSEP for specific audiences, including SEAs, LEAs, lead agencies, and IHEs, including community colleges. In consultation with the OSEP Project Officer and the advisory committee established in accordance with paragraph (b) in the Leadership and Coordination Activities section of this priority, make selected reports, documents, and other materials available for SEAs, LEAs, lead agencies, and IHEs, including community colleges in both English and Spanish.

Leadership and Coordination Activities

(a) Provide information to OSEP at least twice during the project period on the capacity of States to use their personnel data systems to disaggregate HQT data by student disability category.

(b) Establish and maintain an advisory committee to review the activities and outcomes of the Center and provide programmatic support and advice throughout the project period. At a minimum, the advisory committee must meet on an annual basis in Washington, DC, and consist of SEA, LEA, lead agency, IHE, and community college representatives, and a parent of an infant, toddler, or child with a disability. The Center must submit the names of proposed members of the advisory committee to OSEP for approval within eight weeks after receipt of the award.

(c) Communicate and collaborate, on an ongoing basis, with OSEP-funded projects, including the National Comprehensive Center on Teacher Quality, the Center for Improving Teacher Quality, the National Center to Inform Policy and Practice in Special Education Professional Development, the National Outreach and Technical Assistance Center on Discretionary Awards for Minority Institutions, CONNECT: The Center to Mobilize Early Childhood Knowledge, the National Professional Development Center on Autism Spectrum Disorders, the Parent Information Centers, the Regional Resource Centers, and the Center on the Statewide Improvement of Teacher Preparation Programs, which OSEP intends to fund in FY 2008. This collaboration could include the joint development of products, the coordination of TA services, and planning and implementing TA meetings and events.

(d) Participate in, organize, or facilitate, as appropriate, OSEP communities of practice (http://www.tacommunities.org/) that are aligned with the Center's objectives as a way to support discussions and collaboration among key stakeholders.

(e) Prior to developing any new product, whether paper or electronic, submit to the OSEP Project Officer and the Proposed Product Advisory Board at OSEP's TACC for approval, a proposal describing the content and purpose of the product.

(f) Coordinate with the National Dissemination Center for Individuals with Disabilities, which OSEP intends to fund in FY 2008, to develop an efficient and high-quality dissemination strategy that reaches broad audiences. The Center must report to the OSEP Project Officer the outcomes of these coordination efforts.

(g) Contribute, on an ongoing basis, updated information on the Center's services to OSEP's Technical Assistance and Dissemination Matrix (http://matrix.rrfcnetwork.org/), which provides current information on Department-funded TA services to a range of stakeholders.

(h) Conduct a summative evaluation of the Center in collaboration with the OSEP-funded Center to Improve Project Performance (CIPP) as described in the following paragraphs. This summative evaluation must examine the outcomes or impact of the Center's activities in order to assess the effectiveness of those activities in improving the recruitment and retention of qualified personnel for children with disabilities.

Note: The major tasks of CIPP would be to guide, coordinate, and oversee the summative evaluations conducted by selected Technical Assistance, Personnel Development, Parent Training and Information Center, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP, the Center must—

(1) Hire or designate, with the approval of the OSEP Project Officer, a project liaison staff person with sufficient dedicated time, evaluation experience and knowledge of the Center to work with CIPP on the following tasks: (i) Planning for the Center's summative evaluation (e.g., selecting evaluation questions, developing a timeline for the evaluation, locating sources of relevant data, and refining the logic model used for the evaluation), (ii) developing the summative evaluation design and instrumentation (e.g., determining quantitative or qualitative data collection strategies, selecting respondent samples, and pilot testing instruments), (iii) coordinating the evaluation timeline with the implementation of the Center's activities, (iv) collecting summative data, and SE (v) writing reports of summative evaluation findings;

(2) Cooperate with CIPP staff in order to accomplish the tasks described in paragraph (1) of this section; and

(3) Dedicate $30,000 of the annual budget request for this project to cover the costs of carrying out the tasks described in paragraphs (1) and (2) of this section, implementing the Center's formative evaluation, and traveling to Washington, DC in the second year of the project period for the Center's review for continued funding.

(i) Maintain ongoing communication with the OSEP Project Officer through monthly phone conversations and e-mail communication.

Fourth and Fifth Years of the Project

In deciding whether to continue funding the Center for the fourth and fifth years, the Secretary will consider the requirements of 34 CFR 75.253(a), and in addition—

(a) The recommendation of a review team consisting of experts selected by the Secretary. This review will be conducted during a one-day intensive meeting in Washington, DC that will be held during the last half of the second year of the project period;

(b) The timeliness and effectiveness with which all requirements of the negotiated cooperative agreement have been or are being met by the Center; and

(c) The quality, relevance, and usefulness of the Center's activities and products and the degree to which the Center's activities and products have contributed to changed practice and improved recruitment and retention of personnel for children with disabilities.

References

Billingsley, B. (2004). Special education teacher retention and attrition: A critical analysis of the research literature. The Journal of Special Education, 38(1), 39-55.

Center to Inform Personnel Preparation Policy and Practice in Early Intervention and Preschool Education. (2007, October). At a Glance * * * (Volume 1, Nos. 1 & 2). Retrieved January 21, 2008 from http://www.uconnucedd.org/per_prep_center/PDFs/at%20a%20glance%20finals/At%20a%20Glance%20Vol.%207,%20No.%1201%2010.25.07.pdf.

Center on Personnel Studies in Special Education. (2004, February.) An insufficient supply and a growing demand for qualified related service personnel. Special Education Workforce Watch: Insights from Research. Retrieved January 21, 2008 from http://www.coe.ufl.edu/copsse/docs/PB-21/1/PB-21.pdf.

McLeskey, J., Tyler, N., & Flippin, S.S. (2004). The supply and demand for special education teachers: A review of research regarding the chronic shortage of special education teachers. The Journal of Special Education, 38(1), 5-21.

National Center for Education Statistics. (2003). Assessment of Diversity in America's Teaching Force: A Call to Action. Retrieved January 21, 2008 from http://www.nea.org/teacherquality/images/diversityreport.pdf.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1462 and 1481.

Applicable Regulations: (a) The Education Department General Administrative Regulations (EDGAR) in 34 CFR parts 74, 75, 77, 79, 80, 81, 82, 84, 85, 86, 97, 98, and 99.

(b) The regulations for this program in 34 CFR part 304.

Note: The regulations in 34 CFR part 79 apply to all applicants except federally recognized Indian tribes.

Note: The regulations in 34 CFR part 86 apply to IHEs only.

II. Award Information

Type of Award: Cooperative agreement.

Estimated Available Funds: $500,000.

Estimated Average Size of Awards: $500,000.

Maximum Award: We will reject any application that proposes a budget exceeding $500,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; LEAs; public charter schools that are LEAs under State law; IHEs; other public agencies (including lead agencies under Part C of IDEA); private nonprofit organizations; outlying areas; freely associated States; and Indian tribes or tribal organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA Number 84.325C.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the two-page abstract, the resumes, the bibliography, the references, or the letters of support. The page limit, however, does apply to the application narrative (Part III).

We will reject your application if you exceed the page limit; or if you apply other standards and exceed the equivalent of the page limit.

3. Submission Dates and Times:

Applications Available: June 24, 2008.

Deadline for Transmittal of Applications: July 24, 2008.

Applications for grants under this program may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: June 24, 2008.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The National Center to Improve the Recruitment and Retention of Qualified Personnel for Children With Disabilities competition, CFDA Number 84.325C, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Center to Improve the Recruitment and Retention of Qualified Personnel for Children With Disabilities competition at http://www.Grants.gov. You must search for the downloadable application package for this program by the CFDA number. Do not include the CFDA number's alpha suffix in your search (e.g., search for 84.325, not 84.325C).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You also can find the Education Submission Procedures pertaining to Grants.gov at http://e-Grants.ed.gov/help/GrantsgovSubmissionProcedures.pdf.

• To submit your application via Grants.gov, you must complete all steps in the Grants.gov registration process (see http://www.grants.gov/applicants/get_registered.jsp) These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service:U.S. Department of Education, Application Control Center Attention: (CFDA Number 84.325C), 400 Maryland Avenue, SW., Washington, DC 20202-4260; or

By mail through a commercial carrier: U.S. Department of Education, Application Control Center, Stop 4260, Attention: (CFDA Number 84.325C), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325C), 550 12th Street, SW., Room 7041, Potomac Center Plaza, Washington, DC 20202-4260.

The Application Control Center accepts hand deliveries daily between 8 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Peer Review: In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary also may require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the technical assistance and dissemination activities currently being supported under Part D of IDEA. These measures, which will be used for the competition announced in this notice, focus on: The percentage of products and services deemed to be of high quality by an independent review panel of qualified experts or individuals with appropriate expertise to review the substantive content of the products and services; the percentage of products and services deemed to be of high relevance to educational and early intervention policy or practice by an independent review panel of qualified members of the target audiences of the technical assistance and disseminations; and the percentage of all products and services deemed to be of high usefulness by target audiences to improve educational or early intervention policy or practice.

Grantees may be asked to participate in assessing and providing information on these aspects of program quality.

VII. Agency Contact

For Further Information Contact: Maryann McDermott, U.S. Department of Education, 400 Maryland Avenue, SW., room 4153, Potomac Center Plaza (PCP), Washington, DC 20202-2550. Telephone: (202) 245-7439.

If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 18, 2008.
Tracy R. Justesen,
Assistant Secretary for Special Education and Rehabilitative Services.

[FR Doc. E8-14273 Filed 6-23-08; 8:45 am]

BILLING CODE 4000-01-P